SMALL BUSINESS ADMINISTRATION

Data Collection Available for Public Comments

ACTION: 60 Day Notice and request for comments.

SUMMARY: In accordance with the Paperwork Reduction Act of 1995, this notice announces the Small Business Administration's intention to request approval on a new and/or currently approved information collection.

DATES: Submit comments on or before July 2, 2013.

ADDRESSES: Send all comments regarding whether this information collection is necessary for the proper performance of the function of the agency, whether the burden estimates are accurate, and if there are ways to minimize the estimated burden and enhance the quality of the collections, to Ariel Teichman, Management Analyst, Office of Entrepreneurial Development, Small Business Administration, 409 3rd Street SW., Room 6043, Washington, DC 20416.

FOR FURTHER INFORMATION CONTACTS: Ariel Teichman, Management Analyst, 202-205-6592 edmis@sba.gov or Curtis B. Rich, Management Analyst, 202-205-7030 curtis.rich@sba.gov.

Title: “Entrepreneurial Development Management Information System (EDMIS) Client Intake Form & Management Training Form”

Abstract: SBA Forms 641 (Client Intake Form) and 888 (Management Training Form) are used to collect counseling, training and economic impact information from SBA partners and District Offices. Revisions will eliminate redundancy, provide for greater transparency and accountability for program performance, and improve SBA's ability to remain responsive to requests for information from the public, Congress, and program oversight agencies.

Description of Respondents: The SBA Resource Partners, including Small Business Development Centers (SBDC), Women's Business Centers (WBC), and SCORE. In addition, Veterans Business Outreach Centers (VBOCs) and Regional Clusters.

Form Number's: 641,888.

Annual Responses: 1.4 million.

Annual Burden: 160,000.

Curtis Rich,
Management Analyst.

[FR Doc. 2013-10500 Filed 5-2-13; 8:45 am]

BILLING CODE 8025-01-P